NUCLEAR REGULATORY COMMISSION

Agency Information Collection Activities: Proposed Collection; Comment Request

AGENCY: U.S. Nuclear Regulatory Commission (NRC).

ACTION: Notice of pending NRC action to submit an information collection request to the Office of Management and Budget (OMB) and solicitation of public comment.

SUMMARY: The NRC is preparing a submittal to OMB for review of continued approval of information collections under the provisions of the Paperwork Reduction Act of 1995 (44 U.S.C. Chapter 35).

Information pertaining to the requirement to be submitted:

1. The title of the information collection: Design Information Questionnaire-IAEA-N-71 and associated Forms N-72, N-73, N-74, N-75, N-91, N-92, N-93, N-94.

2. Current OMB approval number: 3150-0056.

3. How often the collection is required: Approximately 1 time annually.

4. Who is required or asked to report: Licensees of facilities on the U.S. eligible list who have been notified in writing by the NRC to submit the form.

5. The number of annual respondents: 1.

6. The number of hours needed annually to complete the requirement or request: 360 reporting hours (1 respondent × 360 hours per response).

7. Abstract: In order for the United States to fulfill its responsibilities as a participant in the US/International Atomic Energy Agency (IAEA) Safeguards Agreement, the NRC must collect information from licensees about their installations and provide it to the IAEA. Licensees of facilities that appear on the U.S. eligible list and have been notified in writing by the NRC are required to complete and submit a Design Information Questionnaire, IAEA Form N-71 (and the appropriate associated IAEA Form) or Form N-91, to provide information concerning their installation for use of the IAEA.

Submit, by March 31, 2008, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the draft supporting statement may be viewed free of charge at the NRC Public Document Room, One White Flint North, 11555 Rockville Pike, Room O-1 F21, Rockville, MD 20852. OMB clearance requests are available at the NRC World Wide Web site: http://www.nrc.gov/public-involve/doc-comment/omb/index.html. The document will be available on the NRC home page site for 60 days after the signature date of this notice.

Comments and questions about the information collection requirements may be directed to the NRC Clearance Officer, Margaret A. Janney (T-5 F52), U.S. Nuclear Regulatory Commission, Washington, DC 20555-0001, by telephone at 301-415-7245, or by e-mail to INFOCOLLECTS@NRC.GOV.

Dated at Rockville, Maryland, this 25th day of January 2008.
For the Nuclear Regulatory Commission.
Gregory Trussell,
Acting NRC Clearance Officer, Office of Information Services.

[FR Doc. E8-1754 Filed 1-30-08; 8:45 am]

BILLING CODE 7590-01-P